DEPARTMENT OF THE TREASURY

Agency Information Collection Activities; Submission for OMB Review; Comment Request; Coronavirus Capital Projects Fund

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before January 16, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Title: Coronavirus Capital Projects Fund.

OMB Control Number: 1505-0277.

Type of Review: Revision of a currently approved collection.

Description: Section 604 of the Social Security Act (the “Act”), as added by section 9901 of the American Rescue Plan Act of 2021, Public Law 117-2 (Mar. 11, 2021) authorized the Coronavirus Capital Projects Fund (“CPF”). The CPF provides $10 billion in funding for the Department of the Treasury (“Treasury”) to provide grant payments to States (defined to include the District of Columbia and Puerto Rico), seven territories and freely associated states (including the United States Virgin Islands, Guam, American Samoa, the Commonwealth of the Northern Mariana Islands, the Republic of the Marshall Islands, the Federated States of Micronesia, and the Republic of Palau), and Tribal governments to carry out critical capital projects directly enabling work, education, and health monitoring, including remote options, in response to the public health emergency with respect to the Coronavirus Disease (“COVID-19”).

Section 604(b) of the Act prescribes that the $10 billion be allocated to eligible grant recipients according to a formula provided in the statute. Treasury has used this formula to calculate the CPF grant fund allocations for each eligible recipient and has posted these allocations on its website. In general, each State (including the District of Columbia and Puerto Rico) will receive between approximately $107 million and $500 million, each of the seven named territories and freely associated states will receive approximately $14 million, and each Tribal government will receive approximately $167,000.

Treasury has separately received approval under OMB #1505-0274 for information collections related to applying for CPF grant awards (“Applications”) and for specifying the use of funds (“Grant Plans”).

For non-Tribal entities, the current information collection is used to solicit information related to quarterly project and expenditure reports and annual performance reports. Both information collections are described generally in the Compliance and Reporting Guidance for States, Territories, and Freely Associated Sates, which provides these recipients information needed to fulfill their reporting requirements and compliance obligations.

For Tribal entities, the current information collection will be used to solicit information for annual reports. The information collection is described generally in the Compliance and Reporting Guidance for Tribal Entities, which provides Tribal entities with information needed to fulfill their reporting requirements and compliance obligations.

Form: None.

Affected Public: State, Territorial, Tribal and Freely Associated States Governments.

Estimated Number of Respondents: 609.

Frequency of Response: Quarterly, Annually.

Estimated Total Number of Annual Responses: 845.

Estimated Time per Response: Varies from 20 to 80 hours per year depending on type of respondent and report.

Estimated Total Annual Burden Hours: 30,352.

(Authority: 44 U.S.C. 3501 et seq.)

Spencer W. Clark,
Treasury PRA Clearance Officer.

[FR Doc. 2023-27639 Filed 12-14-23; 8:45 am]

BILLING CODE 4810-AK-P